DEPARTMENT OF COMMERCE

International Trade Administration

[A-570-855]

Certain Non-Frozen Apple Juice Concentrate From the People's Republic of China: Notice of Extension of Time Limit for the Final Results of the New Shipper Review

AGENCY: Import Administration, International Trade Administration, Department of Commerce

SUMMARY: The Department of Commerce is extending the time limit for the final results of the new shipper review of the antidumping duty order on certain non-frozen apple juice concentrate from the People's Republic of China. The period of review for the new shipper review of Yantai Golden Tide Fruits & Vegetable Food, Co., Ltd. is June 1, 2002 through November 30, 2002.

EFFECTIVE DATE: October 22, 2003.

FOR FURTHER INFORMATION CONTACT: Audrey R. Twyman or John Brinkmann, Office of AD/CVD Enforcement I, Import Administration, U.S. Department of Commerce, 14th Street and Constitution Avenue, NW, Washington, DC 20230; telephone (202) 482-3534 or (202) 482-4126, respectively.

SUPPLEMENTARY INFORMATION:

Background

On July 23, 2003, the Department of Commerce (“the Department”) issued the preliminary results of the new shipper review for certain non-frozen apple juice concentrate from the People's Republic of China (“PRC”) for Yantai Golden Tide Fruits & Vegetable Food, Co., Ltd. (“Golden Tide”), covering June 1, 2002 through November 30, 2002. See Non-Frozen Apple Juice Concentrate From the People's Republic of China: Preliminary Results of New Shipper Review, 68 FR 44741 (July 30, 2003) (“Preliminary Results”). The final results are currently due no later than October 21, 2003.

Statutory Time Limits

Section 751(a)(2)(B)(iv) of the Tariff Act of 1930, as amended (“the Act”), requires the Department to issue the final results of a new shipper review within 90 days after the date on which the new shipper review preliminary result is issued. However, if the case is extraordinarily complicated, section 751(a)(2)(B)(iv) of the Act allows the Department to extend this deadline for the final results of the new shipper review to a maximum of 150 days.

Postponement

The Department has determined that it is not practicable to issue the final results within the original time period. This case has become extraordinarily complicated in light of case events. In particular, verification in the PRC that was originally scheduled to occur earlier in the proceeding was delayed due to restrictions on travel to the PRC. The additional time is required in order to allow parties adequate time to comment on the findings of the verification and to comment on the Department's preliminary results. Also, additional time is necessary to analyze data used in the calculation of normal value. Therefore, in accordance with section 751 (a)(2)(B)(iv) of the Act, we are postponing the final results of this new shipper review for 145 days, until no later than December 15, 2003.

This notice is published pursuant to sections 777(i)(1) and 751(a)(1) of the Act.

Dated: October 16, 2003.
Jeffrey May,
Deputy Assistant Secretary for Import Administration.

[FR Doc. 03-26677 Filed 10-21-03; 8:45 am]

BILLING CODE 3510-DS-S